DEPARTMENT OF TRANSPORTATION

Federal Aviation Administration

14 CFR Part 71

[Docket No. FAA-2022-1347; Airspace Docket No. 22-ASO-25]

RIN 2120-AA66

Withdrawal of NPRM, Morganton, NC

AGENCY: Federal Aviation Administration (FAA), DOT.

ACTION: Proposed rule; withdrawal.

SUMMARY: The FAA is withdrawing the notice of proposed rulemaking published in the Federal Register on November 7, 2022, proposing to amend Class E airspace in Morganton, NC, because it is duplicative of a previous action.

DATES: The FAA is withdrawing the proposed rule published November 7, 2022 (87 FR 66974) as of April 18, 2023.

FOR FURTHER INFORMATION CONTACT: John Fornito, Operations Support Group, Eastern Service Center, Federal Aviation Administration, 1701 Columbia Avenue, College Park, GA 30337; telephone (404) 305-6364.

SUPPLEMENTARY INFORMATION:

Reason for Withdrawal

The FAA is withdrawing the NPRM for Docket No, FAA-2022-1347 (87 FR 66974; November 7, 2022) amending Class E airspace for Foothills Regional Airport, Morganton, NC, because it is duplicative of a previously published action. The FAA published a separate NPRM in the Federal Register on October 28, 2022 (87 FR 65178), proposing to amend the same airspace.

Conclusion

The FAA determined that the NPRM published on November 7, 2022, is duplicative and unnecessary. Therefore, the FAA withdraws that NPRM.

Issued in College Park, Georgia, on April 12, 2023.
Andreese C. Davis,
Manager, Airspace & Procedures Team South, Eastern Service Center, Air Traffic Organization.

[FR Doc. 2023-08132 Filed 4-17-23; 8:45 am]

BILLING CODE 4910-13-P